DEPARTMENT OF ENERGY

Federal Energy Regulatory Commission

[Project No. 2206-030]

Carolina Power & Light Company; Notice of Application Ready for Environmental Analysis and Soliciting Comments, Recommendations, Terms and Conditions, and Prescriptions

March 13, 2007.

Take notice that the following hydroelectric application has been filed with the Commission and is available for public inspection.

a. Type of Application: New Major License.

b. Project No.: 2206-030.

c. Date Filed: April 26, 2006.

d. Applicant: Carolina Power & Light Company (d/b/a Progress Energy Carolinas, Inc.).

e. Name of Project: Yadkin-Pee Dee Hydroelectric Project.

f. Location: On the Yadkin and Pee Dee Rivers, in Montgomery, Stanly, Anson, and Richmond Counties, North Carolina. The project does not occupy any Federal lands.

g. Filed Pursuant to: Federal Power Act 16 U.S.C. 791(a)—825(r).

h. Applicant Contact: E. Michael Williams, Senior Vice President for Power Operations, Progress Energy, 410 S. Wilmington Street PEB 13, Raleigh, North Carolina 27602; Telephone (919) 546-6640.

i. FERC Contact: Stephen Bowler, (202) 502-6861; or stephen.bowler@ferc.gov.

j. The deadline for filing comments, recommendations, terms and conditions, and prescriptions is 60 days from the issuance of this notice; reply comments are due 105 days from the issuance date of this notice.

All documents (original and eight copies) should be filed with: Philis J. Posey, Acting Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is ready for environmental analysis at this time.

l. The existing Yadkin-Pee Dee Project consists of the Tillery development on the Yadkin and Pee Dee Rivers and the Blewett Falls development on the Pee Dee River. The Yadkin Pee Dee project has an installed capacity of 108.6 megawatts (MW). The project produces an average annual generation of 326,000 megawatt-hours (MWh).

The Tillery development (at River Mile[RM] 218) includes the following existing facilities: (1) A 2,753-foot-long, 62-foot-maximum height dam with (i) A 1,200-foot-long earth dike, (ii) a 184-foot-long concrete west abutment, (iii) a 731-foot-long gated concrete gravity spillway with eighteen 34-foot-wide by 24-foot-high Tainter gates, (iv) a 14-foot-long by 10-foot-high trash sluice gate, (v) a 310-foot-long powerhouse integral with the dam containing three vertical Francis turbine-generators, one modified Kaplin-type turbine-generator, and one vertical Francis auxiliary turbine-generator with a total generating capacity of 84 MW, and (vi) a 310-foot-long concrete east abutment; (2) a 5,697-acre reservoir at normal pool elevation of 277.3 feet North American Vertical Datum of 1988 (NAVD 88), with 84,150 acre-feet of usable storage capacity; and (3) appurtenant facilities. The Tillery development would continue to be operated as a peaking facility with a typical drawdown of not more than 4 feet under normal conditions.

The Blewett Falls development (at RM 188.2) includes the following existing facilities: (1) A 3,168-foot-long dam with a 870-foot-long easterly earthen embankment, (i) 1,468-foot-long, 47 foot average height concrete ogee gravity spillway topped with four feet wooden flashboards, (ii) a 850-foot-long westerly earthen embankment, (iii) a 300-foot-long, approximately 100-foot-high concrete powerhouse containing six generating units (each unit driven by two horizontal shaft turbines with each turbine consisting of two runners) with a total generating capacity of 24.6 MW; (2) a 2,866-acre reservoir at normal pool elevation of 177.2 feet NAVD 88, with 30,893 acre-feet of usable storage capacity; (3) a 900-foot-long tailrace channel which reconnects to the Pee Dee River; and (4) appurtenant facilities. There is a 1,750-foot-long bypassed reach between the dam and where the tailrace channel enters the Pee Dee River.

Progress Energy proposes to continue operating the projects in the same operational mode. Several proposed modifications to the project include: (1) Making minor changes in reservoir elevations during the winter, under maintenance conditions, and during the largemouth bass spawning period; (2) increasing the minimum flow releases from the Tillery and Blewett Falls developments and using flow-shaping releases during fish spawning periods; (3) implementing fish passage measures, including trap and truck procedures and constructing eel passage facilities at the Blewett Falls development; (4) adopting a shoreline management policy for the Blewett Falls development; (5) improving recreational access, facilities, and trails, and closing the informal boating area below the Tillery development powerhouse and relocating it; and (6) constructing a new public boating access site on the east side of Blewett Falls reservoir.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Philis J. Posey,
Acting Secretary.

[FR Doc. E7-4992 Filed 3-16-07; 8:45 am]

BILLING CODE 6717-01-P